DEPARTMENT OF STATE

[Public Notice 4419]

30-Day Notice of Proposed Information Collection: Form DS-2029/SS-5, Application for Consular Report of Birth Abroad of a Citizen of the United States of America; OMB Control Number 1405-0011

AGENCY: Department of State.

ACTION: Notice.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Reinstatement of a previously approved collection.

Originating Office: CA/OCS.

Title of Information Collection: 1405-0011, Application for Consular Report of Birth Abroad of a Citizen of the United States.

Frequency: On occassion.

Form Number: DS-2029.

Respondents: Parents or legal guardians of American citizen children born overseas.

Estimated Number of Respondents: approximately 46,000 per year.

Average Hours Per Response: approximately 20 minutes, or .33 of an hour.

Total Estimated Burden: 15,333 hours.

Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Copies of the proposed information collection and supporting documents may be obtained from Michael Meszaros, who may be reached on 202-312-9750. Public comments, or requests for additional information, regarding the collection listed in this notice should be directed to the State Department Desk Officer, Officer of Information and Regulatory Affairs, Office of Management and Budget (OMB), Washington, DC 20530, who may be reached on 202-395-3897.

Dated: July 11, 2003.
Maura Harty,
Assistant Secretary, Bureau of Consular Affairs, Department of State.

[FR Doc. 03-19001 Filed 7-24-03; 8:45 am]

BILLING CODE 4710-06-P